DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of five individuals and one entity that have been placed on OFAC's Specially Designated Nationals and Blocked Persons List based on OFAC's determination that one or more applicable legal criteria were satisfied. All property and interests in property subject to U.S. jurisdiction of the individuals and entity are blocked, and U.S. persons are generally prohibited from engaging in transactions with them.

DATES: See SUPPLEMENTARY INFORMATION section for applicable date(s).

FOR FURTHER INFORMATION CONTACT: OFAC: Lisa M. Palluconi, Acting Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website (https://ofac.treasury.gov/).

Notice of OFAC Action

On September 16, 2024, OFAC determined that the property and interests in property subject to U.S. jurisdiction of the following individuals and entity are blocked under the relevant sanctions authorities listed below.

Individuals

1. ARTEMIOU, Artemis, CY-3046 Limassol, Patmou, Zakaki 11A, Cyprus; Hungary; DOB 15 Dec 1979; nationality Cyprus; Gender Female (individual) [CYBER2].

Designated pursuant to section 1(a)(ii) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR., 2016 Comp., p. 659 (“E.O. 13694, as amended”), for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

2. BITZIOS, Felix, Valaoritou 9, Filothei, Attica 15237, Greece; DOB 01 May 1974; POB Athens, Greece; nationality Greece; Gender Male; Passport AT1170869 (Greece); National ID No. AA026331 (Greece) (individual) [CYBER2].

Designated pursuant to section 1(a)(ii) of E.O. 13694, as amended, for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

3. GAMBAZZI, Andrea Nicola Costantino Hermes, United Arab Emirates; 6 King Street, Frome, England BA11 1BH, United Kingdom; DOB 06 Dec 1967; POB Lugano, Switzerland; nationality Switzerland; Gender Male; Passport X4320258 (Switzerland) (individual) [CYBER2].

Designated pursuant to section 1(a)(ii) of E.O. 13694, as amended, for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

4. HARPAZ, Merom, Alfa 5, Elliniko 16777, Greece; DOB 07 Jun 1964; POB Haifa, Israel; nationality Israel; alt. nationality Romania; Gender Male; Passport 39002405 (Israel); alt. Passport 056353456 (Romania); Tax ID No. 975704151 (individual) [CYBER2].

Designated pursuant to section 1(a)(ii) of E.O. 13694, as amended, for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

5. KARAOLI, Panagiota, 40 Filosofou Lapithi, Limassol, Cyprus; DOB 24 Jun 1974; nationality Cyprus; Gender Female; Passport E003856 (individual) [CYBER2].

Designated pursuant to section 1(a)(ii) of E.O. 13694, as amended, for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

Entity

6. ALIADA GROUP, INC., VG Torta, OMC Chambers, Wickhams Cay 1., Virgin Islands, British; Organization Type: Activities of holding companies; Registration Number 1926732 (Virgin Islands, British) [CYBER2].

Designated pursuant to section 1(a)(ii) E.O. 13694, as amended, for being responsible for or complicit in, or having engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

Dated: September 16, 2024.
Lisa M. Palluconi,
Acting Director, Office of Foreign Assets Control, U.S. Department of the Treasury.

[FR Doc. 2024-21490 Filed 9-19-24; 8:45 am]

BILLING CODE 4810-AL-P